DEPARTMENT OF LABOR

Employment and Training Administration

[TA-W-75,099]

West, A Thomson Reuters Business, Thomson Reuters Legal Division, Including On-Site Leased Workers From ADECCO, Albuquerque, NM; Notice of Affirmative Determination Regarding Application for Reconsideration

By application dated April 12, 2011, a Trade Adjustment Assistance Coordinator from the State of New Mexico requested administrative reconsideration of the negative determination regarding workers' eligibility to apply for Trade Adjustment Assistance (TAA) applicable to workers and former workers of West, A Thomson Reuters Business, Thomson Reuters Legal Division, Albuquerque, New Mexico (subject firm). The determination was issued on March 4, 2011. The Department's Notice of Determination was published in the Federal Register on March 17, 2011 (76 FR 14693). The workers are engaged in activities related to the supply of legal, business, and regulatory information services.

The negative determination was based on the findings that the group eligibility requirements under Section 222(a) and (c) of the Act, 19 U.S.C. 2272(a) and (c), have not been satisfied because the investigation revealed that only one worker has been totally or partially separated from the subject firm. 29 CFR 90.2 states that a significant number or proportion of the workers means at least three workers in a firm (or appropriate subdivision thereof) with a workforce of fewer than 50 workers, or five percent of the workers or 50 workers, whichever is less, in a workforce of 50 or more workers. Finally, the group eligibility requirements under Section 222(f) of the Act, 19 U.S.C. 2272(f), have not been satisfied because the workers' firm has not been identified in an affirmative finding of injury by the International Trade Commission.

In the request for reconsideration, the TAA Coordinator alleges a mistake in fact with regards to the number and/or proportion of workers separated, or threatened with separation.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC this 28th day of April, 2011.
Del Min Amy Chen,
Certifying Officer, Office of Trade Adjustment Assistance.

[FR Doc. 2011-11476 Filed 5-10-11; 8:45 am]

BILLING CODE 4510-FN-P